DEPARTMENT OF LABOR

Employment and Training Administration

[TA-W-59,138]

Infinity Resources, Inc., Erie, PA; Notice of Termination of Investigation

Pursuant to section 221 of the Trade Act of 1974, as amended, an investigation was initiated on April 3, 2006, in response to a worker petition filed by the subject firm on behalf of workers at Infinity Resources, Inc., Erie, Pennsylvania.

The investigation revealed that the subject worker group is already covered by an existing certification (TA-W-58,974, certified March 21, 2006). Consequently, the investigation has been terminated.

Signed at Washington, DC, this 6th day of April 2006.
Elliott S. Kushner,
Certifying Officer, Division of Trade Adjustment Assistance.

[FR Doc. E6-5760 Filed 4-17-06; 8:45 am]

BILLING CODE 4510-30-P